COMMITTEE FOR PURCHASE FROM PEOPLE WHO ARE BLIND OR SEVERELY DISABLED

Procurement List; Additions and Deletion

AGENCY: Committee for Purchase From People Who Are Blind or Severely Disabled.

ACTION: Additions to and Deletion from the Procurement List.

SUMMARY: This action adds products to the Procurement List that will be furnished by nonprofit agencies employing persons who are blind or have other severe disabilities, and deletes a service from the Procurement List previously provided by such agency.

DATES: Effective Date: 7/9/2015.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 3/20/2015 (80 FR 14973); 4/3/2015 (80 FR 18216-18217); 4/24/2015 (80 FR 22977) and 5/1/2015 (80 FR 24905-24906), the Committee for Purchase From People Who Are Blind or Severely Disabled published notices of proposed additions to the Procurement List.

After consideration of the material presented to it concerning capability of qualified nonprofit agencies to furnish the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

Product Name/NSN(s): Cup, Disposable, Paper

7350-00-NIB-0209—BioBased, Cold Beverage, White, 21 oz.

7350-00-NIB-0210—Cup, Disposable, Paper, Cold Beverage, White, 21 oz.

7350-00-NIB-0215—Cup, Disposable, Paper, Cold Beverage, White, 32 oz.

Mandatory Purchase For: Total Government Requirement

Mandatory Source of Supply: The Lighthouse for the Blind in New Orleans, Inc., New Orleans, LA

Contracting Activity: General Services Administration, Fort Worth, TX

Distribution: A-List

Product Name/NSN(s): Hearing Protection

4240-00-SAM-0025—Over-the-Head Earmuff, NRR 30dB

4240-00-SAM-0026—Behind-the-Head Earmuff, NRR 30dB

4240-00-NSH-0019—Behind-the-Head Earmuff, NRR 30dB

4240-01-534-3386—Over-the-Head Earmuff, NRR 30dB

Mandatory Purchase For: Total Government Requirement

Mandatory Source of Supply: Access: Supports for Living Inc., Middletown, NY

Contracting Activity: Defense Logistics Agency Troop Support, Philadelphia, PA

Distribution: B-List

Product Name(s)/NSN(s): Apron, Father's Day/MR 1162

Mandatory Source of Supply: Alphapointe, Kansas City, MO

Bowl, Cereal and Sipping, Sesame Street/MR 10664

Holder, Juice Box, Sesame Street/MR 10665

Mandatory Source of Supply: Winston-Salem Industries for the Blind, Inc., Winston-Salem, NC

Mandatory Purchase For: Requirements of military commissaries and exchanges as aggregated by the Defense Commissary Agency

Contracting Activity: Defense Commissary Agency, Fort Lee, VA

Distribution: C-List

Product Name/NSN(s): File Folder, Single Tab, 1/3 Cut

7530-00-NIB-1104—Letter, Position 1

7530-00-NIB-1105—Letter, Position 2

7530-00-NIB-1106—Letter, Position 3

Mandatory Purchase For: Total Government Requirement

Distribution: A-List

7530-00-NIB-1107—Legal, Position 1

7530-00-NIB-1108—Legal, Position 2

7530-00-NIB-1109—Legal, Position 3

Mandatory Purchase For: Total Government Requirement

Distribution: B-List

Mandatory Source of Supply: Association for Vision Rehabilitation and Employment, Inc., Binghamton, NY

Contracting Activity: General Services Administration, New York, NY

Deletion

On 4/24/2015 (80 FR 22977), the Committee for Purchase From People Who Are Blind or Severely Disabled published notice of proposed deletion from the Procurement List.

After consideration of the relevant matter presented, the Committee has determined that the service listed below is no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the service to the Government.

3. There are no known regulatory alternatives which would accomplish the objectives of the Javits-Wagner-O'Day Act (41 U.S.C. 8501-8506) in connection with the service deleted from the Procurement List.

End of Certification

Accordingly, the following service is deleted from the Procurement List:

Service

Service Type: Shelf Stocking, Custodial & Warehousing Service Travis Air Force Base, CA

Service is Mandatory For: PRIDE Industries, Roseville, CA

Contracting Activity: Defense Commissary Agency, Fort Lee, VA

Barry S. Lineback,
Director, Business Operations.

[FR Doc. 2015-14118 Filed 6-9-15; 8:45 am]

BILLING CODE 6353-01-P